DEPARTMENT OF COMMERCE

Membership of the Office of the Secretary Performance Review Board

AGENCY: Department of Commerce.

ACTION: Notice of membership on the Office of the Secretary Performance Review Board.

SUMMARY: In accordance with 5 U.S.C., 4314(c)(4), Department of Commerce (DOC) announces the appointment of persons to serve as members of the Office of the Secretary (OS) Performance Review Board (PRB). The OS PRB is responsible for reviewing performance Ratings, pay adjustments and bonuses of Senior Executive Service (SES) members. The term of the new members of the OS PRB will expire December 31, 2009.

Effective Date: The effective date of service of appointees to the Office of the Secretary Performance Review Board is upon publication of this notice.

FOR FURTHER INFORMATION CONTACT: Denise A. Yaag, Director, Office of Executive Resources, Office of Human Resources Management, Office of the Director, 14th and Constitution Avenue, NW., Washington, DC 20230, (202) 482-3600.

SUPPLEMENTARY INFORMATION: The names, position titles, and type of appointment of the members of the OS/PRB are set forth below by organization:

Office of the Secretary 2007-2009 Performance Review Board Membership

Office of the Secretary

Tracey S. Rhodes, Director, Executive Secretariat.

Office of Assistant Secretary for Administration

Fred Fanning, Director for Administrative Services.

Barbara Retzlaff, Director, Office of Budget (Alternate).

Bureau of Industry and Security

Mark M. Foulon, Deputy Under Secretary for Industry and Security.

National Institute of Standards and Technology

W. Todd Grams, Chief Financial Office for NIST.

Office of the General Counsel

Michael A. Levitt, Assistant General Counsel for Legislation and Regulation.

Joan Maginnis, Assistant General Counsel for Finance and Litigation (Alternate).

Dated: July 20, 2007.
Denise A. Yaag,
Director, Office of Executive Resources.

[FR Doc. 07-3990 Filed 8-14-07; 8:45 am]

BILLING CODE 3510-BS-M